NATIONAL FOUNDATION ON THE ARTS AND THE HUMANITIES

Institute of Museum and Library Services

Notice of Proposed Information Collection Request: Evaluation of IMLS's Applying Promising Practices for Small and Rural Libraries (APP) Program

AGENCY: Institute of Museum and Library Services, National Foundation on the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments about this assessment process, instructions and data collections.

A copy of the proposed information collection request can be obtained by contacting the individual listed below in the ADDRESSES section of this notice.

DATES: Written comments must be submitted to the office listed in the addressee section below on or before April 23, 2020.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Ms. Kim Miller, Senior Grants Management Specialist, Office of Grants Management and Policy, Institute of Museum and Library Services, 955 L'Enfant Plaza North SW, Suite 4000, Washington, DC 20024-2135. Ms. Miller can be reached by Telephone: 202-653-4762, Fax: 202-653-4608, by email at kmiller@imls.gov, or by teletype (TTY/TDD) for persons with hearing difficulty at 202-653-4614.

FOR FURTHER INFORMATION CONTACT: Marvin Carr, Ph.D., Senior Evaluation Officer, Office of Digital and Information Services, Institute of Museum and Library Services, 955 L'Enfant Plaza North SW, Suite 4000, Washington, DC 20024-2135. Dr. Carr can be reached by Telephone: 202-653-4752, Fax: 202-653-4604, by email at mcarr@imls.gov, or by teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

The Applying Promising Practices for Small and Rural Libraries (APP) program is a special initiative, funded through the IMLS Office of Library Services. The goal of this initiative is to support projects that strengthen the ability of small and rural libraries and archives to serve their communities in the areas of digital inclusion, community memory, and school library practice.

As IMLS prepares to make new awards under this initiative, the Agency seeks to undertake a systematic assessment to better understand the methods for building the capacity of these small and rural libraries and archives to serve their communities. The proposed evaluation approach is intended to provide a reasonable balance between scientific considerations for valid and reliable evidence and stakeholder utilization of the acquired knowledge. This investigation is intended to inform IMLS decision-making for current and future grant-making in this grant program, as well as for practices in this segment of the library sector.

Agency: Institute of Museum and Library Services.

Title: Evaluation and Learning for IMLS's Applying Promising Practices for Small and Rural Libraries (APP) program.

OMB Number: 3137-TBD.

Frequency: Once.

Affected Public: Federal, State and local governments.

Number of Respondents: TBD.

Estimated Average Burden per Response: TBD hours.

Estimated Total Annual Burden: TBD hours.

Total Annualized capital/startup costs: n/a.

Total Annual costs: TBD.

Public Comments Invited: Comments submitted in response to this notice will be summarized and/or included in the request for OMB's clearance of this information collection.

Dated: February 20, 2020.
Kim Miller,
Senior Grants Management Specialist, Institute of Museum and Library Services.

[FR Doc. 2020-03681 Filed 2-24-20; 8:45 am]

BILLING CODE 7036-01-P